DEPARTMENT OF HEALTH AND HUMAN SERVICES

National Institutes of Health

Center for Scientific Review: Amended Notice of Meeting

Notice is hereby given of a change in the meeting of the Nuclear and Cytoplasmic Structure/Function and Dynamics Study Section, May 26, 2016, 08:00 a.m. to May 27, 2016, 05:00 p.m., Sheraton Fisherman's Wharf Hotel, 2500 Mason Street, San Francisco, CA, 94133 which was published in the Federal Register on April 27, 2016, 81 Pg. 2483.

The meeting will be held on 5/26/2016. The meeting time and location remains the same. The meeting is closed to the public.

Dated: April 29, 2016.
Carolyn Baum,
Program Analyst, Office of Federal Advisory Committee Policy.

[FR Doc. 2016-10466 Filed 5-4-16; 8:45 am]

BILLING CODE 4140-01-P